DEPARTMENT OF ENERGY

Federal Energy Regulatory Commission

Combined Notice of Filings #1

Take notice that the Commission received the following exempt wholesale generator filings:

Docket Numbers: EG21-216-000.

Applicants: Caddo Wind, LLC.

Description: Self-Certification of EG or FC of Caddo Wind, LLC.

Filed Date: 8/11/21.

Accession Number: 20210811-5092.

Comment Date: 5 p.m. ET 9/1/21.

Take notice that the Commission received the following electric rate filings:

Docket Numbers: ER21-1111-002.

Applicants: Alabama Power Company.

Description: Tariff Amendment: Response to Second Deficiency Letter regarding Southeast EEM Agreement to be effective 10/12/2021.

Filed Date: 8/11/21.

Accession Number: 20210811-5101.

Comment Date: 5 p.m. ET 8/23/21.

Docket Numbers: ER21-1112-002.

Applicants: Dominion Energy South Carolina, Inc.

Description: Tariff Amendment: SEEM Concurrence Deficiency Filing to be effective 10/12/2021.

Filed Date: 8/11/21.

Accession Number: 20210811-5097.

Comment Date: 5 p.m. ET 8/23/21.

Docket Numbers: ER21-1114-002.

Applicants: Louisville Gas and Electric Company.

Description: Tariff Amendment: Southeast EEM Response to Second Deficiency Letter to be effective 10/12/2021.

Filed Date: 8/11/21.

Accession Number: 20210811-5086.

Comment Date: 5 p.m. ET 8/23/21.

Docket Numbers: ER21-1115-002.

Applicants: Duke Energy Progress, LLC, Duke Energy Carolinas, LLC.

Description: Tariff Amendment: Duke Energy Carolinas, LLC submits tariff filing per 35.17(b): Response to Second Deficiency Letter Regarding Southeast EEM Agreement to be effective 12/31/9998.

Filed Date: 8/11/21.

Accession Number: 20210811-5093.

Comment Date: 5 p.m. ET 8/23/21.

Docket Numbers: ER21-1116-002.

Applicants: Duke Energy Carolinas, LLC.

Description: Tariff Amendment: DEC—Southeast Energy Exchange Market Concurrence Second Deficiency Response to be effective 10/12/2021.

Filed Date: 8/11/21.

Accession Number: 20210811-5095.

Comment Date: 5 p.m. ET 8/23/21.

Docket Numbers: ER21-1117-002.

Applicants: Duke Energy Progress, LLC.

Description: Tariff Amendment: DEP—Southeast Energy Exchange Market Concurrence Second Deficiency Response to be effective 10/12/2021.

Filed Date: 8/11/21.

Accession Number: 20210811-5100.

Comment Date: 5 p.m. ET 8/23/21.

Docket Numbers: ER21-1118-002.

Applicants: Louisville Gas and Electric Company.

Description: Tariff Amendment: Southeast EEM Response to Second Deficiency Letter LGEKU OATT to be effective 12/31/9998.

Filed Date: 8/11/21.

Accession Number: 20210811-5084.

Comment Date: 5 p.m. ET 8/23/21.

Docket Numbers: ER21-1119-002.

Applicants: Georgia Power Company.

Description: Tariff Amendment: Response to Second Deficiency Letter regarding Southeast EEM Agreement to be effective 10/12/2021.

Filed Date: 8/11/21.

Accession Number: 20210811-5106.

Comment Date: 5 p.m. ET 8/23/21.

Docket Numbers: ER21-1120-002.

Applicants: Kentucky Utilities Company.

Description: Tariff Amendment: Southeast EEM Response to Second Deficiency Letter to be effective 10/12/2021.

Filed Date: 8/11/21.

Accession Number: 20210811-5087.

Comment Date: 5 p.m. ET 8/23/21.

Docket Numbers: ER21-1121-002.

Applicants: Mississippi Power Company.

Description: Tariff Amendment: Response to Second Deficiency Letter regarding Southeast EEM Agreement to be effective 10/12/2021.

Filed Date: 8/11/21.

Accession Number: 20210811-5107.

Comment Date: 5 p.m. ET 8/23/21.

Docket Numbers: ER21-1125-002.

Applicants: Alabama Power Company.

Description: Tariff Amendment: Response to Second Deficiency Letter regarding Southeast EEM Agreement to be effective 12/31/9998.

Filed Date: 8/11/21.

Accession Number: 20210811-5105.

Comment Date: 5 p.m. ET 8/23/21.

Docket Numbers: ER21-1128-002.

Applicants: Dominion Energy South Carolina, Inc.

Description: Tariff Amendment: Attach P and P-1—NEETS Additional Info to be effective 12/31/9998.

Filed Date: 8/11/21.

Accession Number: 20210811-5098.

Comment Date: 5 p.m. ET 8/23/21.

Docket Numbers: ER21-2643-000.

Applicants: Southwest Power Pool, Inc.

Description: § 205(d) Rate Filing: 2829R6 Midwest Energy/Evergy Kansas Central Meter Agent Agr to be effective 8/1/2021.

Filed Date: 8/11/21.

Accession Number: 20210811-5005.

Comment Date: 5 p.m. ET 9/1/21.

Docket Numbers: ER21-2644-000.

Applicants: AEP Texas Inc.

Description: § 205(d) Rate Filing: AEPTX-BRP Carina BESS Generation Interconnection Agreement to be effective 8/3/2021.

Filed Date: 8/11/21.

Accession Number: 20210811-5025.

Comment Date: 5 p.m. ET 9/1/21.

Docket Numbers: ER21-2645-000.

Applicants: AEP Texas Inc.

Description: § 205(d) Rate Filing: AEPTX-Helena Wind 1st A&R Generation Interconnection Agreement to be effective 8/3/2021.

Filed Date: 8/11/21.

Accession Number: 20210811-5031.

Comment Date: 5 p.m. ET 9/1/21.

Docket Numbers: ER21-2646-000.

Applicants: Alabama Power Company.

Description: Tariff Amendment: Pulaski County Solar 2 (Hawkinsville 1 Solar) LGIA Termination Filing to be effective 8/11/2021.

Filed Date: 8/11/21.

Accession Number: 20210811-5055.

Comment Date: 5 p.m. ET 9/1/21.

Docket Numbers: ER21-2647-000.

Applicants: Alabama Power Company.

Description: Tariff Amendment: Pulaski County Solar 2 (Hawkinsville 2 Solar) LGIA Termination Filing to be effective 8/11/2021.

Filed Date: 8/11/21.

Accession Number: 20210811-5057.

Comment Date: 5 p.m. ET 9/1/21.

Docket Numbers: ER21-2648-000.

Applicants: Alabama Power Company.

Description: § 205(d) Rate Filing: Paper Shell Solar 1 LGIA Filing to be effective 7/28/2021.

Filed Date: 8/11/21.

Accession Number: 20210811-5058.

Comment Date: 5 p.m. ET 9/1/21.

Docket Numbers: ER21-2649-000.

Applicants: Macquarie Energy LLC.

Description: Macquarie Energy LLC submits Explanation for Bilateral Spot Sales In Western Electricity Coordinating Council.

Filed Date: 8/6/21.

Accession Number: 20210806-5261.

Comment Date: 5 p.m. ET 8/27/21.

Docket Numbers: ER21-2650-000.

Applicants: Southern California Edison Company.

Description: § 205(d) Rate Filing: LGIA 45MG 8ME LLC Aratina Solar Center 2 SA No. 271 to be effective 8/12/2021.

Filed Date: 8/11/21.

Accession Number: 20210811-5065.

Comment Date: 5 p.m. ET 9/1/21.

Docket Numbers: ER21-2651-000.

Applicants: Tri-State Generation and Transmission Association, Inc.

Description: § 205(d) Rate Filing: Amendment to Rate Schedule FERC No. 269 to be effective 8/12/2021.

Filed Date: 8/11/21.

Accession Number: 20210811-5083.

Comment Date: 5 p.m. ET 9/1/21.

Docket Numbers: ER21-2652-000.

Applicants: Caddo Wind, LLC.

Description: Baseline eTariff Filing: Application for Market-Based Rate Authorization to be effective 10/11/2021.

Filed Date: 8/11/21.

Accession Number: 20210811-5089.

Comment Date: 5 p.m. ET 9/1/21.

Docket Numbers: ER21-2653-000.

Applicants: Southern California Edison Company.

Description: § 205(d) Rate Filing: Amend GIA & DSA (SA 667-668) Wind Stream Operations, LLC & Terminate 6 Agmts to be effective 10/11/2021.

Filed Date: 8/11/21.

Accession Number: 20210811-5099.

Comment Date: 5 p.m. ET 9/1/21.

Docket Numbers: ER21-2654-000.

Applicants: Midcontinent Independent System Operator, Inc.

Description: § 205(d) Rate Filing: 2021-08-11_SA 3391 Ameren IL-Maple Flats Solar Energy Center (J813) to be effective 8/2/2021.

Filed Date: 8/11/21.

Accession Number: 20210811-5118.

Comment Date: 5 p.m. ET 9/1/21.

Docket Numbers: ER21-2655-000.

Applicants: Southwestern Public Service Company.

Description: § 205(d) Rate Filing: SPS-Llano-LGIA-Second Amnd-101-0.0.0 to be effective 10/10/2021.

Filed Date: 8/11/21.

Accession Number: 20210811-5169.

Comment Date: 5 p.m. ET 9/1/21.

Take notice that the Commission received the following PURPA 210(m)(3) filings:

Docket Numbers: QM21-27-000.

Applicants: Alliant Energy Corporate Services, Inc., Interstate Power & Light Company, Wisconsin Power & Light Co.

Description: Application of Alliant Energy Corporate Services, Inc., on Behalf of its Electric Utility Affiliates, to Terminate Its Mandatory Purchase Obligation under the Public Utility Regulatory Policies Act of 1978.

Filed Date: 8/6/21.

Accession Number: 20210806-5260.

Comment Date: 5 p.m. ET 9/3/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2021.
Debbie-Anne A. Reese,
Deputy Secretary.

[FR Doc. 2021-17634 Filed 8-16-21; 8:45 am]

BILLING CODE 6717-01-P